DEPARTMENT OF STATE

[Public Notice 5171]

Announcement of Meetings of the International Telecommunication Advisory Committee

SUMMARY: The International Telecommunication Advisory Committee announces meetings in preparation for the December meeting of the International Telecommunication Union Telecommunication Development Advisory Group (TDAG) and December meetings of the Organization for Economic Cooperation and Development/Committee for Information, Computer and Communications Policy (OECD/ICCP) Working Party on Telecommunications and Information Services Policies (TISP) and Working Party on the Information Economy (WPIE). Members of the public will be admitted to the extent that seating is available, and may join in the discussions, subject to the instructions of the Chair. Directions to the meeting location are available to the public on the Internet and conference bridge information may be obtained from minardje@state.gov. End Summary.

The International Telecommunication Advisory Committee (ITAC) will meet at the U.S. Department of State, Harry S. Truman Building Room 2533A to prepare for meetings of the OECD/ICCP Working Parties ITU-D Telecommunication Development Advisory Group (TDAG), on Wednesday, November 16, and Wednesday, November 30, 2005, all meetings 2-3 p.m. The International Telecommunication Advisory Committee (ITAC) will meet at the U.S. Department of State, Harry S. Truman Building Room 2533A to prepare for meetings of the ITU-D Telecommunication Development Advisory Group (TDAG), on Thursday, November 3, Thursday, November 10, and Thursday, November 17, 2005, all meetings 10 a.m.—noon.

Dated: October 19, 2005.
Marian Gordon,
Director, Telecommunication & Information Standardization, International Communications & Information Policy, Department of State.

[FR Doc. 05-21376 Filed 10-25-05; 8:45 am]

BILLING CODE 4710-07-P